DEPARTMENT OF JUSTICE

Notice of Lodging of Proposed Consent Decree Under the Comprehensive Environmental Response, Compensation, and Liability Act (“CERCLA”)

On May 11, 2023, the Department of Justice lodged a proposed consent decree with the United States District Court for the District of Massachusetts in the lawsuit entitled United States of America and Commonwealth of Massachusetts v. American Biltrite Inc., et al., Civil Action No. 1:23-cv-11044.

The United States seeks performance of a remedial design/remedial action and reimbursement of response costs under sections 106 and 107 of the Comprehensive Environmental Response, Compensation, and Liability Act (“CERCLA”), 42 U.S.C. 9606 and 9607, concerning Operable Unit 1 (“OU1”), Operable Unit 2 (“OU2”), and Operable Unit 3 (“OU3”) of the Olin Chemical Superfund Site (“Site”), located in Wilmington, Massachusetts. The Commonwealth of Massachusetts is co-plaintiff.

Under the proposed consent decree, four Settling Defendants (American Biltrite Inc., NOR-AM Agro LLC, Olin Corporation, and Stepan Company) agree to perform the final remedial action for OU1 and OU2, and the interim remedial action for OU3, that are identified in the United States Environmental Protection Agency's (“EPA”) Record of Decision relating to the Site, dated March 30, 2021. The total estimated cost of the remedial cleanup is approximately $48.2 million. The proposed consent decree also requires the Settling Defendants to pay the United States' past and future Site-related response costs, and to pay the Commonwealth's future Site-related response costs.

The publication of this notice opens a period for public comment on the proposed consent decree. Comments should be addressed to the Assistant Attorney General, Environment and Natural Resources Division, Environmental Enforcement Section, and should refer to United States of America and Commonwealth of Massachusetts v. American Biltrite Inc., et al., Civil Action No. 1:23-cv-11044, D.J. Ref. No. 90-11-3-08919/1. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department website: https://www.justice.gov/enrd/consent-decrees. We will provide a paper copy of the consent decree upon written request and payment of reproduction costs. Please mail your request and payment to: Consent Decree Library, U.S. DOJ—ENRD, P.O. Box 7611, Washington, DC 20044-7611.

Please enclose a check or money order for $189.75 (25 cents per page reproduction cost) for the consent decree with appendix, or $10.75 for the consent decree without the appendix, payable to the United States Treasury.

Henry S. Friedman,
Assistant Section Chief, Environmental Enforcement Section, Environment and Natural Resources Division.

[FR Doc. 2023-10505 Filed 5-16-23; 8:45 am]

BILLING CODE 4410-15-P